DEPARTMENT OF HEALTH AND HUMAN SERVICES

Solicitation of Nominations for Appointment to the Advisory Committee on Blood and Tissue Safety and Availability (ACBTSA)

AGENCY: Office of the Assistant Secretary for Health, Office of the Secretary, U.S. Department of Health and Human Services.

ACTION: Notice.

SUMMARY: The Office of the Assistant Secretary for Health (OASH) is seeking nominations for membership on the Advisory Committee on Blood and Tissue Safety and Availability (referred to as ACBTSA and/or the Committee). This announcement is to solicit nominations of qualified candidates to five public member positions on the ACBTSA. The ACBTSA is a federal advisory committee within the U.S. Department of Health and Human Services (HHS). Qualified individuals will be nominated to the Secretary of Health and Human Services for consideration of appointment as members of the ACBTSA. Members are invited to serve on the Committee for up to four-year terms. The Committee was established to provide advice to the Secretary on a range of policy issues related to blood, blood products, and tissues. The functions of the Committee are solely advisory in nature.

DATES: Nominations for membership on the ACBTSA must be received no later than 5:00 p.m. (ET), May 5, 2023. Packages received after this time will not be considered for the current membership cycle.

ADDRESSES: All nominations should be electronically mailed in one email to ACBTSA@hhs.gov. Please include in the subject line of the email: ACBTSA Application.

FOR FURTHER INFORMATION CONTACT: James Berger, Designated Federal Officer for the ACBTSA; Office of Infectious Disease and HIV/AIDS Policy, Office of the Assistant Secretary for Health, Department of Health and Human Services, Tower Building, 1101 Wootton Parkway, Rockville, MD 20852. Email: ACBTSA@hhs.gov. Phone: 202-795-7608. Additional information about ACBTSA can be obtained by accessing the Committee's website at https://www.hhs.gov/oidp/advisory-committee/blood-tissue-safety-availability/index.html.

SUPPLEMENTARY INFORMATION: ACBTSA is authorized under 42 U.S.C. 217a, section 222 of the Public Health Service (PHS) Act, as amended. The Committee is governed by the provisions of the Federal Advisory Committee Act (FACA), Public Law 92-463, as amended, which sets forth standards for the formation and use of advisory committees. The ACBTSA advises, assists, consults with, and makes policy recommendations to the Secretary, through the Assistant Secretary for Health, regarding broad responsibilities related to the safety of blood, blood products, tissues, and organs. For solid organs and blood stem cells, the Committee's work is limited to policy issues related to donor derived infectious disease complications of transplantation.

The Advisory Committee consists of up to 29 members, including the voting and non-voting members and the Chair and Vice Chair or Co-Chairs. The Committee consists of not more than 23 voting members; 14 public members, including the Chair, and nine (9) individuals designated to serve as official representative members. The public members are selected from state and local organizations, patient advocacy groups, provider organizations, academic researchers, ethicists, physicians, surgeons, scientists, risk communication experts, consumer advocates, and from among communities of persons who are frequent recipients of blood or blood products or who have received tissues or organs. The nine individuals who are appointed as official representatives are selected to serve the interests of the blood, blood products, tissue and organ professional organizations or business sectors. The representative members are selected from the following groups: The AABB (formerly the American Association of Blood Banks); American Association of Tissue Banks; Eye Bank Association of America; Association of Organ Procurement Organizations; and one of either the American Red Cross or America's Blood Centers. The Committee composition can include additional representation from either the plasma protein fraction community or a trade organization; a manufacturer of blood, plasma, or other tissue/organ test kits; a manufacturer of blood, plasma or other tissue/organ equipment; a major hospital organization; or a major hospital accreditation organization.

All voting members are appointed by the Secretary or designee. Public voting members are classified as special government employees (SGEs) and are subject to government ethics rules. Pursuant to an advance written agreement, SGE voting members shall receive no stipend from the federal government for the services they perform during their tenure on the Committee. However, the SGE voting members are entitled to receive per diem and reimbursement for travel expenses incurred for attending meetings of the Advisory Committee.

Nominations

Nominations are being sought for individuals who have expertise and qualifications necessary to contribute to the accomplishment of the ACBTSA's objectives. The U.S. Department of Health and Human Services policy stipulates that committee membership be balanced in terms of points of view represented and the committee's function. Appointments shall be made without discrimination on the basis of age, race, ethnicity, sexual orientation, gender identity, disability, veteran status, and cultural or religious status. In order to help ensure diverse groups and points of view are represented on the committee, nominees may provide this information when applying. Nominees must be U.S. citizens and cannot be full-time employees of the U.S. Government. Public members of the Committee are Special Government Employees (SGEs), requiring the filing of financial disclosure reports at the beginning and annually during their terms. Individuals who are selected for appointment will be required to provide detailed information regarding their financial interests and must receive annual ethics training. Candidates should submit the following items to be considered of appointment:

• Current curriculum vitae or resume, including complete contact information (telephone numbers, mailing address, email address).

• A letter of interest or personal statement from the nominee stating how their expertise would inform the work of ACBTSA (300 words or fewer).

• Nominees are invited to identify any or some of the following: race, ethnicity, sexual orientation, gender identity, disability, veteran status and cultural or religious status. This is not mandatory for a complete application.

Individuals can nominate themselves for consideration of appointment to the Committee. All nominations must include the required information in one email sent to ACBTSA@hhs.gov with the subject line, “ACBTSA Application.” Incomplete nomination applications will not be processed for consideration.

Dated: March 13, 2023.
James J. Berger,
Senior Advisor for Blood and Tissue Policy, Designated Federal Officer, Advisory Committee on Blood and Tissue Safety and Availability, Office of the Assistant Secretary for Health, Department of Health and Human Services.

[FR Doc. 2023-07038 Filed 4-4-23; 8:45 am]

BILLING CODE 4150-41-P